FEDERAL RESERVE SYSTEM

Formations of, Acquisitions by, and Mergers of Bank Holding Companies; Correction

This notice corrects a notice (FR Doc. 04-10852) published on page 26606 of the issue for Thursday, May 13, 2004.

Under the Federal Reserve Bank of San Francisco heading, the entry for First Banks, Inc., St. Louis, Missouri, is revised to read as follows:

A. Federal Reserve Bank of St. Louis (Randall C. Sumner, Vice President) 411 Locust Street, St. Louis, Missouri 63166-2034:

1. First Banks, Inc., St. Louis, Missouri, and its subsidiary, The San Francisco Company San Francisco, California; to acquire 100 percent of the voting shares of Continental Mortgage Corporation-Delaware, Aurora, Illinois, and thereby indirectly acquire voting shares of Continental Community Bank and Trust Company, Aurora, Illinois.

Comments on this application must be received by June 7, 2004.

Board of Governors of the Federal Reserve System, May 17, 2004.
Robert deV. Frierson,
Deputy Secretary of the Board.

[FR Doc. 04-11474 Filed 5-20-04; 8:45 am]

BILLING CODE 6210-01-S